DEPARTMENT OF COMMERCE

National Oceanic and Atmospheric Administration

RIN 0648-XC180

Fisheries of the South Atlantic and Gulf of Mexico; South Atlantic Fishery Management Council (SAFMC); Public Meeting

AGENCY: National Marine Fisheries Service (NMFS), National Oceanic and Atmospheric Administration (NOAA), Commerce.

ACTION: Notice of a public meeting.

SUMMARY: The SAFMC will hold a meeting of its Scientific and Statistical Committee (SSC) to review and discuss the following items: Fishery Management Plan (FMP) amendments under development; stock assessment benchmarks and updates; and planning for 2013 stock assessments. The meeting will be held in North Charleston, SC.

DATES: The meeting will be held October 23-25, 2012. See SUPPLEMENTARY INFORMATION for specific dates and times.

ADDRESSES: The meeting will be held at the Crowne Plaza, 4831 Tanger Outlet Boulevard, North Charleston SC 29418; telephone: (843) 744-4422.

FOR FURTHER INFORMATION CONTACT: Kim Iverson, Public Information Officer, 4055 Faber Place Drive, Suite 201, North Charleston, SC 29405; telephone: (843) 571-4366; email: Kim.Iverson@safmc.net.

SUPPLEMENTARY INFORMATION: Under the Reauthorized Magnuson-Stevens Fishery Conservation and Management Act, the SSC is the body responsible for reviewing the Council's scientific materials. The SSC will: Discuss FMP amendments under development; review assessments and provide fishing level recommendations for red porgy, vermilion snapper, and yellowtail snapper; review Terms of Reference (TOR) for benchmark stock assessments of blueline tilefish and gray triggerfish; review the Southeast Data, Assessment and Review (SEDAR) schedule for 2013; review the prior black sea bass assessment update and recommend a probability of stock rebuild; discuss allowable biological catch (ABC) control rule approaches and risk; and review shrimp stock assessment approaches.

SSC Meeting Schedule

October 23, 2012, 8:30 a.m.-6 p.m.

October 24, 2012, 8:30 a.m.-6 p.m.

October 25, 2012, 8:30 a.m.-3 p.m.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to the Council office (see ADDRESSES) at least 3 business days prior to the meeting.

Dated: September 20, 2012.
Tracey L. Thompson,
Acting Deputy Director, Office of Sustainable Fisheries, National Marine Fisheries Service.

[FR Doc. 2012-23546 Filed 9-24-12; 8:45 am]

BILLING CODE 3510-22-P